DEPARTMENT OF JUSTICE

Notice of Lodging of Amendment to Consent Decree Under the Comprehensive Environmental Response, Compensation, and Liability Act

Under 28 CFR 50.7, notice is hereby given that on February 3, 2003, a proposed Amendment to Consent Decree (“Amendment”) in United States v. Motor Wheel Corp., Civil Action No. 1:94-CV-96 was lodged with the United States District Court for the Western District of Michigan.

In 1994, the United States District Court for the Western District of Michigan entered a Consent Decree in this matter pursuant to the Comprehensive Environmental Response, Compensation, and Liability Act, as amended (“CERCLA”), 42 U.S.C. 9601 et seq. Under the 1994 Decree, the Settling Defendants agreed to perform the remedial action selected by the United States Environmental Protection Agency at the Motor Wheel Disposal Site in Lansing, Michigan and reimburse the United States for past response costs and future response costs.

The remedial action required by the 1994 Decree addressed the contaminant source areas and two shallow zones of groundwater contamination, but did not address the deeper Saginaw aquifer, because that zone had not yet been sufficiently studied. Under the Amendment, Goodyear Tire & Rubber Company, one of the original Settling Defendants, will perform additional remedial work to restore the Saginaw aquifer to drinking water standards.

The Department of Justice will receive for a period of thirty (30) days from the date of this publication comments relating to the Amendment. Comments should be addressed to the Assistant Attorney General, Environment and Natural Resources Division, PO Box 7611, U.S. Department of Justice, Washington, DC 20044-7611, and should refer to United States v. Motor Wheel Corp., D.J. Ref. 90-11-2-753.

The Amendment may be examined at the Office of the United States Attorney, 330 Ionia Ave., Suite 501, Lansing, Michigan, and at U.S. EPA Region 5, 77 W. Jackson Blvd., Chicago, Illinois. During the public comment period, the Amendment may also be examined on the following Department of Justice Web site, http://www.usdoj.gov/enrd/open.html. A copy of the Amendment may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury.

William D. Brighton,
Assistant Chief, Environmental Enforcement Section, Environment and Natural Resources Division.

[FR Doc. 03-4150 Filed 2-20-03; 8:45 am]

BILLING CODE 4410-15-M